DEPARTMENT OF COMMERCE

National Oceanic and Atmospheric Administration

RIN 0648-XD517

Fisheries of the South Atlantic; South Atlantic Fishery Management Council (SAFMC); Public Meeting

AGENCY: National Marine Fisheries Service (NMFS), National Oceanic and Atmospheric Administration (NOAA), Commerce.

ACTION: Notice of a public meeting.

SUMMARY: The South Atlantic Fishery Management Council (Council) will hold a Visioning Workshop, October 14-16, 2014 in North Charleston, SC.

DATES: The workshop will be held 1 p.m.-5 p.m., Tuesday, October 14, 2014; 8:30 a.m.-5 p.m., Wednesday, October 15, 2014; and 8:30 a.m.-3 p.m., Thursday, October 16, 2014. Public comment will be held 4:30 p.m.-5 p.m., Tuesday, October 14, 2014; 4:30 p.m.-5 p.m., Wednesday, October 15, 2014; 1:30 p.m.-2 p.m., Thursday, October 16, 2014.

ADDRESSES: Meeting address: Crowne Plaza Charleston Airport-Convention Center, 4381 Tanger Outlet Boulevard, N. Charleston, SC 29418; telephone: (843) 744-4422.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; telephone: (843) 571-4366 or toll free (866) SAFMC-10; fax: (843) 769-4520; email: kim.iverson@safmc.net.

SUPPLEMENTARY INFORMATION: This workshop is being held for Council members to discuss the further development of a Vision Blueprint (long-term strategic plan) for the South Atlantic snapper grouper fishery. The outcome of the workshop will consist of a draft Vision Blueprint document outlining strategic goals, objectives, and strategies for managing the snapper grouper fishery going forward. The draft document will be provided to the Council at the December 2014 Council meeting and then open for public comment. Topics of discussion include:

1. Visioning exercise to develop key concepts for each sector of the snapper grouper fishery.

2. Breakout Group Discussion to develop strategies on key topics to include:

a. Sub-regional Management

b. Reporting/Data Collection

c. Reducing Discards

d. Access to the Fishery

e. Stakeholder Engagement

f. Habitat/Ecosystems

g. Allocation

3. Plenary session to summarize breakout group discussions, and

4. Public Comment/Outreach Approaches for draft Vision Blueprint.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: September 23, 2014.
Tracey L. Thompson,
Acting Deputy Director, Office of Sustainable Fisheries, National Marine Fisheries Service.

[FR Doc. 2014-22957 Filed 9-25-14; 8:45 am]

BILLING CODE 3510-22-P